NUCLEAR REGULATORY COMMISSION

[Docket No. 50-0289; NRC-2022-0115]

Constellation Energy Generation, LLC; Three Mile Island Nuclear Station, Unit 1

AGENCY: Nuclear Regulatory Commission.

ACTION: Environmental assessment and finding of no significant impact; issuance.

SUMMARY: The U.S. Nuclear Regulatory Commission (NRC) is considering issuance of an exemption for Three Mile Island Nuclear Station, Unit 1 (TMI-1). The exemption would allow the licensee, Constellation Energy Generation, LLC (CEG) to use a portion of the TMI-1 decommissioning trust fund (DTF) for site restoration activities at TMI-1 without prior notice to the NRC. The NRC is issuing an environmental assessment (EA) and finding of no significant impact (FONSI) associated with the proposed action.

DATES: The EA and FONSI referenced in this document are available on June 6, 2022.

ADDRESSES: Please refer to NRC-2022-0115 when contacting the NRC about the availability of information regarding this document. You may obtain publicly available information related to this document using any of the following methods:

• Federal Rulemaking website: Go to https://www.regulations.gov and search for Docket ID NRC-2022-0115. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Amy M. Snyder, Office of Nuclear Material Safety and Safeguards, U.S. Nuclear Regulatory Commission, Washington, DC 20555-0001, telephone: 301-415-6822, email: Amy.Snyder@nrc.gov.

SUPPLEMENTARY INFORMATION:

I. Introduction

The NRC is considering issuance of an exemption pursuant to section 50.12 of title 10 of the Code of Federal Regulations (10 CFR), “Specific exemptions,” for Renewed Facility Operating License No. DPR-50, for TMI-1, located in Londonderry Township, Dauphin County, Pennsylvania. By letter dated May 20, 2021, Exelon Generation Company, LLC, submitted a request for exemption from the specific requirements of 10 CFR 50.82(a)(8)(i)(A) and 50.75(h)(1)(iv). The exemption from 10 CFR 50.82(a)(8)(i)(A) and 10 CFR 50.75(h)(1)(iv) would permit the licensee to make withdrawals from the TMI-1 DTF for site restoration activities at TMI-1 without prior notice to the NRC, in the same manner that withdrawals are made under 10 CFR 50.82(a)(8) for radiological decommissioning activities. On February 1, 2022, the NRC was notified that the Exelon Generation Company, LLC changed its name to Constellation Energy Generation, LLC.

In accordance with 10 CFR 51.21, the NRC has prepared an EA that analyzes the environmental effects of the proposed action. Based on the results of this EA, and in accordance with 10 CFR 51.31(a), the NRC has determined not to prepare an environmental impact statement (EIS) for the proposed licensing action and is issuing a FONSI.

II. Environmental Assessment

Description of the Proposed Action

As described in the licensee's application dated May 20, 2021, the proposed action would partially exempt CEG from the requirements set forth in 10 CFR 50.82(a)(8)(i)(A) and 10 CFR 50.75(h)(1)(iv). Specifically, the proposed action would allow CEG to use funds from the DTF for site restoration activities not associated with radiological decommissioning activities and would exempt CEG from meeting the requirement for prior notification to the NRC for these activities.

Need for the Proposed Action

By letter dated June 20, 2017, Exelon certified to the NRC that it had decided to permanently cease power operations at TMI-1 on or about September 30, 2019. Exelon permanently ceased power operations at TMI-1 on September 20, 2019, and certified all fuel is removed from the reactor core on September 26, 2019. On April 5, 2019, pursuant to 10 CFR 50.82(a)(4)(i), Exelon submitted the post-shutdown decommissioning activities report for TMI-1.

As required by 10 CFR 50.82(a)(8)(i)(A), decommissioning trust funds may be used by CEG, the current licensee, if the withdrawals are for legitimate decommissioning activity expenses, consistent with the definition of decommissioning in 10 CFR 50.2. This definition addresses radiological decontamination and does not include activities associated with spent fuel management or site restoration. The requirements of 10 CFR 50.75(h)(1)(iv) also restrict the use of DTF disbursements (other than for ordinary administrative costs and other incidental expenses of the fund in connection with the operation of the fund) to decommissioning expenses until final radiological decommissioning is completed. Therefore, an exemption from 10 CFR 50.82(a)(8)(i)(A) and 10 CFR 50.75(h)(1)(iv) is needed to allow CEG to use funds from the TMI-1 DTF for site restoration activities at TMI-1.

The requirements of 10 CFR 50.75(h)(1)(iv) further provide that, except for withdrawals being made under 10 CFR 50.82(a)(8) or for payments of ordinary administrative costs and other incidental expenses of the fund in connection with the operation of the fund, no disbursement may be made from the DTF without written notice to the NRC at least 30 working days in advance. Therefore, an exemption from 10 CFR 50.75(h)(1)(iv) is also needed to allow CEG to use funds from the TMI-1 DTF for site restoration activities at TMI-1 without prior NRC notification.

Environmental Impacts of the Proposed Action

The proposed actions involve regulatory requirements that are of a financial or administrative nature and that do not have an impact on the environment. The NRC has completed its evaluation of the proposed action and concludes that there is reasonable assurance that adequate funds are available in the DTF to complete all activities associated with radiological decommissioning. There would be no decrease in safety associated with the use of the DTF to fund activities associated with site restoration. The NRC regulations in 10 CFR 50.82(a)(8)(v) require licensees to submit a financial assurance status report annually between the time of submitting their site-specific decommissioning cost estimate until they submit their final radiation survey and demonstrate that residual radioactivity has been reduced to a level that permits termination of the operating license. Section 50.82(a)(8)(vi) requires that if the sum of the balance of any remaining decommissioning funds, plus expected rate of return, plus any other financial surety mechanism relied upon by the licensee, does not cover the estimated costs to complete the decommissioning, the financial assurance status report must include additional financial assurance to cover the cost of completion. These annual reports provide a means for the NRC to monitor the adequacy of available funding.

The proposed exemption would allow CEG to use excess funds from the DTF to support site restoration activities not associated with radiological decontamination. The NRC staff has determined that there is reasonable assurance of adequate funding for radiological decommissioning. Specifically, CEG has provided detailed site-specific cost-estimates for radiological decommissioning that the NRC staff finds sufficiently demonstrate that the funds in the DTF dedicated to radiological decommissioning are adequate to complete decommissioning and terminate the TMI-1 license, with excess funding available to pay for site restoration activities within the scope of the exemption request. Thus, there is reasonable assurance that there will be no environmental effect due to lack of adequate funding for decommissioning.

The proposed actions will not significantly increase the probability or consequences of radiological accidents or change the types of effluents released offsite. In addition, there would be no significant increase in the amount of any radiological effluent released offsite, and no significant increase in occupational or public radiation exposure. There would be no materials or chemicals introduced into the plant affecting the characteristics or types of effluents released offsite. In addition, waste processing systems would not be affected by the proposed exemption. Therefore, there would be no significant radiological environmental impacts associated with the proposed actions.

Regarding potential nonradiological impacts, the proposed actions would have no direct impacts on land use or water resources, including terrestrial and aquatic biota, as it involves no new construction or modification of plant operational systems. There would be no changes to the quality or quantity of nonradiological effluents, and no changes to the plant's National Pollutant Discharge Elimination System permits would be needed. In addition, there would be no noticeable effect on socioeconomic and environmental justice conditions in the region, no air quality impacts, and no potential to affect historic properties. Therefore, there would be no significant nonradiological environment impacts associated with the proposed actions.

Accordingly, the NRC concludes that there would be no significant environmental impacts associated with the proposed actions.

Environmental Impacts of the Alternatives to the Proposed Action

As an alternative to the proposed action, the NRC staff considered the denial of the proposed actions (i.e., the “no-action” alternative). Denial of the exemption requests would result in no change in current environmental impacts. The environmental impacts of the proposed action and the alternative action would be similar.

Alternative Use of Resources

There are no unresolved conflicts concerning alternative uses of available resources under the proposed action.

Agencies and Persons Consulted

In accordance with its stated policy, on May 3, 2022, the staff consulted with Commonwealth of Pennsylvania, regarding the environmental impact of the proposed action. The state official had no comments on the proposed EA and FONSI.

III. Finding of No Significant Impact

The licensee has requested exemptions from 10 CFR 50.82(a)(8)(i)(A) and 10 CFR 50.75(h)(1)(iv), which would allow CEG to use funds from the DTF for site restoration activities, without prior written notification to the NRC. The NRC is considering issuing the requested exemption. The proposed action would not significantly affect plant safety, would not have a significant adverse effect on the probability of an accident occurring, and would not have any significant radiological or nonradiological impacts. The reason the human environment would not be significantly affected is that the proposed action involves an exemption from requirements that are of a financial or administrative nature and that do not have an impact on the human environment.

Consistent with 10 CFR 51.21, the NRC conducted the EA for the proposed action, and this FONSI incorporates by reference the EA included in Section II of this notice. Therefore, the NRC concludes that the proposed action will not have a significant effect on the quality of the human environment. Accordingly, the NRC has determined there is no need to prepare an EIS for the proposed action.

As required by 10 CFR 51.32(a)(5), the related environmental document is the “Generic Environmental Impact Statement for License Renewal of Nuclear Plants: Regarding Three Mile Island Nuclear Station, Unit 1, Final Report,” (NUREG-1437, Supplement 37), which provides the latest environmental review of current operations and description of environmental conditions at TMI-1.

IV. Availability of Documents

The documents identified in the following table are available to interested persons through ADAMS.

Document | ADAMS Accession No.
Notification of Completion of License Transfer and Request to Continue Processing Pending NRC Actions Previously Requested by Exelon Generation Company, LLC, dated February 1, 2022 | ML22032A333
Three Mile Island Nuclear Station, Unit 1, Request for Exemption from 10 CFR 50.82(a)(8)(i)(A) and 10 CFR 50.75(h)(1)(iv), dated May 20, 2021 | ML21140A311
Three Mile Island Nuclear Station, Unit 1—Certification of Permanent Cessation of Power Operations, dated June 20, 2017 | ML17171A151
Certification of Permanent Removal of Fuel from the Reactor Vessel for Three Mile Island Nuclear Station, Unit 1, dated September 26, 2019 | ML19269E480
Three Mile Island Nuclear Station, Unit 1—Post-Shutdown Decommissioning Activities Report, dated April 5, 2019 | ML19095A041
NUREG-1437, Supplement 37, “Generic Environmental Impact Statement for License Renewal of Nuclear Plants, Supplement 37, Regarding Three Mile Island Nuclear Station, Unit 1,” dated June 2009 | ML091751063
Three Mile Island Nuclear Station, Unit 1—Proposed Action—Proposed FONSI for TMI-1 Exemption Request from 10 CFR 50.82(a)(8)(i)(A) and 10 CFR 50.75(h)(1)(iv) notification of Commonwealth of Pennsylvania Response, dated May 3, 2022 | ML22125A010

Dated: June 1, 2022.
For the Nuclear Regulatory Commission.
Jane E. Marshall,
Director, Division of Decommissioning, Uranium Recovery, and Waste Programs, Office of Nuclear Material Safety and Safeguards.

[FR Doc. 2022-12060 Filed 6-3-22; 8:45 am]

BILLING CODE 7590-01-P